DEPARTMENT OF VETERANS AFFAIRS

[OMB Control No. 202503-2900-014]

Agency Information Collection Activity: Establishing Property Suitability for VA Specially Adapted Housing

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before January 23, 2026.

ADDRESSES: Comments must be submitted through www.regulations.gov.

FOR FURTHER INFORMATION CONTACT:

Program-specific information: Kendra McCleave, 202-461-9760, Kendra.McCleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Establishing Property Suitability for VA Specially Adapted Housing.

OMB Control Number: 202503-2900-014 https://www.reginfo.gov/public/do/PRASearch (Once at this link, you can enter the OMB Control Number to find the historical versions of this Information Collection).

Type of Review: New Collection (Request for a new OMB Control Number).

Abstract: The Report of Loan Guaranty Existing Housing Unit Inspection of SAH Property Suitability (VA Form 26-1858a-ARE), Report of Loan Guaranty SHA Property Suitability (VA 26-1858b), Report of Loan Guaranty SAH Vacant Lot Inspection (VA Form 26-1858c-ARE), Report of Loan Guaranty Final SAH/SHA Field Review (VA Form 26-1858d) are used to assess the suitability and condition of properties under the VA's Specially Adapted Housing (SAH) program. The information collected in this process assists Veterans who are entitled to adapted housing grants itemized under 38 U.S.C. Chapter 21 § 2101 (a) who may use their benefit to “acquire a suitable housing unit” that will provide a barrier-free living space based on “the nature of the Veteran's disability”. Per 38 U.S.C. Chapter 21 § 2101 (a)3, determinations must be made regarding the feasibility and suitability of a proposed property. Information must be gathered to make such determinations. 38 CFR 36.4404 (b) requires that the VA establish if it is medically feasible for the Veteran to reside outside an institutional setting, that the proposed housing unit is suitable for the Veteran's needs and that the cost of the proposed housing unit bears a proper relation to the Veteran's present and anticipated income and expenses. The information being sought is both required and necessary to make an accurate analysis that may support these conclusions.

Affected Public: Individuals and households.

Estimated Annual Burden: 2,695 Hours.

Estimated Average Burden per Respondent: 15 minutes (to complete forms)/45 minutes (to take photos and measurements).

Frequency of Response: Annually.

Estimated Number of Respondents: 6,628.

Authority: 44 U.S.C. 3501 et seq.

Lanea Haynes,
Acting VA PRA Clearance Officer, (Alt) Office of Enterprise and Integration/Data Governance Analytics, Department of Veterans Affairs.

[FR Doc. 2025-20671 Filed 11-21-25; 8:45 am]

BILLING CODE 8320-01-P